FEDERAL DEPOSIT INSURANCE CORPORATION

Agency Information Collection Activities: Submission for OMB Review; Comment Request (3064-0046, 0090, 0093, 0138, & 0145)

AGENCY: Federal Deposit Insurance Corporation (FDIC).

ACTION: Notice of information collections to be submitted to OMB for review and approval under the Paperwork Reduction Act of 1995.

SUMMARY: In accordance with requirements of the Paperwork Reduction Act of 1995 (44 U.S.C. chapter 35), the FDIC hereby gives notice that it plans to submit to the Office of Management and Budget (OMB) a request for OMB review and renewal of the collections of information described below:

DATES: Comments must be submitted on or before October 16, 2009.

ADDRESSES: Interested parties are invited to submit written comments to FDIC by any of the following methods. All comments should refer to the name of the collection as well as the OMB control number(s):

• Web site: http://www.FDIC.gov/regulations/laws/federal/notices.html.

• E-mail: Comments@FDIC.gov. Include the name of the collection in the subject line of the message.

• Mail: Gary A. Kuiper, Counsel, 202.898.3877, Legal Division, Federal Deposit Insurance Corporation, 550 17th Street, NW., Washington, DC 20429.

• Hand Delivery: Comments may be hand-delivered to the guard station at the rear of the 550 17th Street Building (located on F Street), on business days between 7 a.m. and 5 p.m.

• Public Inspection: All comments received will be posted without change to http://www.fdic.gov/regulations/laws/federal/propose.html including any personal information provided. Comments may be inspected at the FDIC Public Information Center, Room E-1002, 3501 Fairfax Drive, Arlington, VA 22226, between 9 a.m. and 5 p.m. on business days.

Comments may also be submitted to the OMB desk officer for the FDIC: Office of Information and Regulatory Affairs, Office of Management and Budget, New Executive Office Building, Room 10235, 727 17th Street, NW., Washington, DC 20503.

FOR FURTHER INFORMATION CONTACT: Gary A. Kuiper at the address identified above.

SUPPLEMENTARY INFORMATION: Proposal to renew the following currently approved collections of information:

1. Title: Home Mortgage Disclosure Act (HMDA).

OMB Number: 3064-0046.

Form Number: None.

Frequency of Response: On occasion.

Affected Public: Insured State nonmember banks.

Estimated Number of Responses: 1,890,384

Estimated Time per Response: 5 minutes.

Total Annual Burden: 157,532 hours.

General Description of Collection: To permit the FDIC to detect discrimination in residential mortgage lending, certain insured State nonmember banks are required by FDIC regulation 12 CFR 338 to maintain various data on home loan applicants.

2. Title: Public Disclosure by Banks.

OMB Number: 3064-0090.

Form Number: None.

Frequency of Response: On occasion.

Affected Public: Insured State nonmember banks.

Estimated Number of Respondents: 5,050.

Estimated Time per Response: 0.5 hours.

Total Annual Burden: 2,525 hours.

General Description of Collection: 12 CFR 350 requires a bank to notify the general public, and in some instances shareholders, that financial disclosure statements are available on request. Required disclosures consist of financial reports for the current and preceding year, which can be photocopied directly from the year-end call reports. Also, on a case-by-case basis, the FDIC may require that descriptions of enforcement actions be included in disclosure statements. The regulation allows, but does not require, the inclusion of management discussions and analysis.

3. Title: Notices Required of Government Securities Dealers or Brokers (Insured State Nonmember Banks).

OMB Number: 3064-0093.

Form Number: G-FIN; G-FINW; G-FIN4; & G-FIN5.

Frequency of Response: On occasion.

Affected Public: Insured State nonmember banks acting as government securities brokers and dealers.

Estimated Number of Respondents: 49.

Estimated Time per Response: 1 hour.

Total Annual Burden: 49 hours.

General Description of Collection: The Government Securities Act of 1986 requires all financial institutions acting as government securities brokers and dealers to notify their Federal regulatory agencies of their broker-dealer activities, unless exempted from the notice requirement by Treasury Department regulation.

4. Title: Applicant Background Questionnaire.

OMB Number: 3064-0138.

Form Number: FDIC 2100/14.

Frequency of Response: On occasion.

Affected Public: FDIC job applicants who are not current FDIC employees.

Estimated Number of Respondents: 30,000.

Estimated Time per Response: 3 minutes.

Total Annual Burden: 1500 hours.

General Description of Collection: The FDIC Applicant Background Questionnaire is completed voluntarily by FDIC job applicants who are not current FDIC employees. Responses to questions on the survey provide information on gender, age, disability, race/national origin, and to the applicant's source of vacancy announcement information. Data is used by the Office of Diversity and Economic Opportunity and the Personnel Services Branch to evaluate the effectiveness of various recruitment methods used by the FDIC to ensure that the agency meets workforce diversity objectives.

5. Title: Notice Regarding Unauthorized Access to Customer Information.

OMB Number: 3064-0145.

Form Number: None.

Frequency of Response: On occasion.

Affected Public: Insured State nonmember banks.

Number of FDIC Regulated Banks that will notify customers: 93

Estimated Time per Response: 29 hrs. Annual Burden: 2,697 hours.

General Description of Collection: This collection reflects the FDIC's expectations regarding a response program that financial institutions should develop to address unauthorized access to or use of customer information that could result in substantial harm or inconvenience to a customer. The information collections require financial institutions to: (1) Develop notices to customers; and (2) in certain circumstances, determine which customers should receive the notices and send the notices to customers.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the information collection on respondents, including through the use of automated collection techniques or other forms of information technology. All comments will become a matter of public record.

Dated at Washington, DC, this 10th day of September, 2009.
Robert E. Feldman,
Executive Secretary, Federal Deposit Insurance Corporation.

[FR Doc. E9-22238 Filed 9-15-09; 8:45 am]

BILLING CODE 6714-01-P